ENVIRONMENTAL PROTECTION AGENCY

40 CFR Part 180

[EPA-HQ-OPP-2013-0023; FRL-9399-7]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before October 15, 2013.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), telephone number: (703) 305-7090, email address: BPPDFRNotices@epa.gov; or Lois Rossi, Registration Division (RD) (7505P), telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), (21 U.S.C. 346a), requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 2F8015. (EPA-HQ-OPP-2012-0515). Chemtura Corporation, 199 Benson Road, Middlebury, CT 06749, requests to establish tolerances in 40 CFR part 180 for residues of the insecticide diflubenzuron, N-[[(4-chlorophenyl)amino]-carbonyl]-2,6-difluorobenzamide (DFB) and its metabolites 4-chlorophenylurea (CPU) and 4-chloroaniline (PCA), in or on Fruit, citrus, Group 10-10 at 3.0 parts per million (ppm), and citrus, oil at 32.0 ppm. Residues of the individual analytes are detectable and quantifiable using three separate analytical methods. Residues of diflubenzuron (DFB) were quantitated by liquid chromatography/tandem mass spectrometry (LC-MS/MS), and residues of the metabolites 4-chlorophenylurea (CPU) and 4-chloroaniline (PCA) were derivatized with HFBA and quantitated by GC/MS. (RD)

2. PP 2F8099. (EPA-HQ-OPP-2012-0941). Valent U.S.A. Corporation, 1600 Riviera Avenue, Suite 200, Walnut Creek, CA 94596, requests to establish tolerances in 40 CFR part 180 for inadvertent residues of the fungicide fluopicolide, 2,6-dichloro-N-[3-chloro-5-(trifluoromethyl)-2-pyridylmethyl]-benzamide, as an indicator of combined residues of fluopicolide and its metabolite, 2,6-dichlorobenzamide (BAM), in or on corn, field, forage at 0.09 ppm; corn, field, grain, at 0.01 ppm; and corn, field, stover at 0.3 ppm, resulting from the proposed use as a fungicide. Additional data included in the petition, to assess potential dietary exposure from P1x and PCA, show no inadvertent residues of P1x or PCA in the corn grain. Practical analytical methods for detecting and measuring levels of fluopicolide and its metabolites have been developed and validated in/on all appropriate plant and animal matrices. An analytical method for detecting fluopicolide and BAM in field corn matrices has been submitted with this petition. (RD)

3. PP 3E8175. (EPA-HQ-OPP-2013-0428). Interregional Research Project Number 4 (IR-4), 500 College Road East, Suite 201 W., Princeton, NJ 08540, supported in this action by Syngenta Crop Protection, LLC, P.O. Box 18300, Greensboro, NC 27419-8300, requests to establish a tolerance in 40 CFR part 180 for residues of the insecticide, avermectin (abamectin) determined by measuring only avermectin B1, a mixture of avermectins containing greater than or equal to 80% avermectin B1a (5- O -demethyl avermectin A1) and less than or equal to 20% avermectin B1b (5- O -demethyl-25-de(1-methylpropyl)-25-(1-methylethyl) avermectin A1), and its delta-8,9-isomer in or on Caneberry subgroup 13-07A at 0.20 ppm. The analytical methods involve homogenization, filtration, partition, and cleanup with analysis by high performance liquid chromatography (HPLC)-fluorescence detection. The methods are sufficiently sensitive to detect residues at or above the proposed tolerance. All methods have undergone independent laboratory validation. (RD)

4. PP 3E8183. (EPA-HQ-OPP-2013-0496). Interregional Research Project Number 4 (IR-4), 500 College Road East, Suite 201 W., Princeton, NJ 08540, requests to establish a tolerance in 40 CFR part 180 for the combined residues of the fungicide, cis- and trans-1,3-dichloropropene, including its metabolites and degradates, in or on pineapple at 0.02 ppm. It is proposed that compliance with the tolerance levels specified in § 180.636 is to be determined by measuring cis- and trans-1,3-dichloropropene and its metabolites cis- and trans-3-chloroacrylic acid, and cis-and trans-3-chloroallylalcohol, in or on the commodity. The proposed tolerances are to support post plant use in pineapple, similar to the established drip irrigation use of 1,3-dichloropropene in grapes. Adequate enforcement methodology, using capillary gas chromatography with mass selective detection (GC/MS), is available to enforce the tolerance expression. Analytical methods determine residues of 1,3-dichlorpropene, 3-chloroallyl alcohol, and 3-chloroacrylic acid at trace concentrations in samples of pineapple using GC/MS. (RD)

5. PP 3F8163. (EPA-HQ-OPP-2013-0255). BASF Corporation, 26 Davis Drive, Research Triangle Park, NC 27709, requests to establish a tolerance in 40 CFR part 180 for residues of the fungicide metrafenone, ((3-bromo-6-methoxy-2-methylphenyl) (2,3,4-trimethoxy-6-methylphenyl)methanone), in or on Fruits, pome, group 11-10 at 1.5 ppm. The residues of parent metrafenone in/on apple and pear RAC samples were quantitated using an LC/MS/MS multi-residue QuEChERS method (BASF Study No. 398340). (RD)

6. PP 3F8184. (EPA-HQ-OPP-2013-0428). Syngenta Crop Protection, LLC, P.O. Box 18300, Greensboro, NC 27419, requests to establish tolerances in 40 CFR part 180 for residues of the insecticide, avermectin B1 (which is a mixture of a minimum of 80% avermectin B1a and a maximum of 20% avermectin B1b) and the delta 8,9-isomer of the B1a and of the B1b components of the parent insecticide, in or on corn, field, sweet and pop at 0.01 ppm; corn, field and pop, forage at 0.2 ppm; corn, field and pop, grain at 0.01 ppm; corn, field and pop, stover at 0.6 ppm; corn, sweet, forage at 0.2 ppm; corn, sweet, kernel plus cob with husk removed at 0.01 ppm; corn, sweet, stover at 0.5 ppm; soybean at 0.01 ppm; soybean forage at 0.3 ppm; soybean, hay at 1 ppm; and soybean, seed at 0.01 ppm. The HPLC-fluorescence detection method is used to measure and evaluate the chemical abamectin. (RD)

New Tolerance Exemption

1. PP 2F8103. (EPA-HQ-OPP-2013-0569). Northwest Agricultural Products, 821 South Chestnut Avenue, Pasco, WA 99301, requests to establish an exemption from the requirement of a tolerance for residues of the herbicide, Pseudomonas fluorescens strain D7, in or on growing crops and rangeland. The petitioner believes no analytical method is needed because an analytical method for residues is not applicable, as Northwest Agricultural Products is proposing an exemption from the requirement of a tolerance. (BPPD)

2. PP 3F8177. (EPA-HQ-OPP-2013-0574). Amy Plato Roberts of Technology Science Group, Inc., 712 Fifth St., Suite A, Davis, CA 95616 on behalf of IAB, S.L. (Investigaciones y Aplicaciones Biotecnologicas S.L.), Avda. Paret del Patriarca 11-B, Ap. 30, 46113 Moncada (Valencia), Spain, requests to establish an exemption from the requirement of a tolerance for residues of the fungicide, Bacillus subtilis strain IAB/BS03, in or on all food commodities. The petitioner believes no analytical method is needed because it is expected that, when used as proposed, Bacillus subtilis strain IAB/BS03, would not result in residues that are of toxicological concern. (BPPD)

3. PP IN-10549. (EPA-HQ-OPP-2013-0601). Ecolab, Inc., EPA Company Number 1677, 370 N. Wabasha Street, St. Paul, MN 55102, requests to establish an exemption from the requirement of a tolerance for residues of 9-octadecenoic acid (9Z)-, sulfonated, oxidized (CAS No. 1315321-93-7) (when formed using the pre-reaction material 9-octadecenoic acid (9Z)- sulfonated, (CAS No. 68988-76-1)); 9-octadecenoic acid (9Z)-, sulfonated, oxidized, potassium salts (CAS No. 1315321-94-8) (when formed using the pre-reaction material 9-octadecenoic acid (9Z-) sulfonated, potassium salt (CAS No. 68609-93-8)); and 9-octadecenoic acid (9Z)-, sulfonated, oxidized, sodium salts, (CAS No. 1315321-95-9) (when formed using the pre-reaction material 9-octadecenoic acid (9Z)-, sulfonated, sodium salt (CAS No. 68443-05-0)) (also referred to as peroxy sulfonated oleic acids (PSOA)) for use as an inert ingredient in antimicrobial pesticide formulations applied to food-contact surfaces in public eating places, dairy processing equipment and food processing equipment and utensils in accordance with 40 CFR 180.940(a) at 250 ppm. The petitioner believes no analytical method is needed because it is not required for the establishment of a tolerance exemption for inert ingredients. (RD)

4. PP IN-10605. (EPA-HQ-OPP-2013-0525). Huntsman Corp., 8600 Gosling Rd., The Woodlands, TX 77381, requests to establish an exemption from the requirement of a tolerance for residues of tall oil, polymer with polyethylene glycol and succinic anhydride monopolyisobutylene derivs., minimum number average molecular weight (in amu), 1,400; (CAS No. 1398573-80-2) under 40 CFR 180.960 when used as a pesticide inert ingredient surfactant in food use pesticide formulations. The petitioner believes no analytical method is needed because this information is not required for the establishment of a tolerance exemption. (RD)

5. PP IN-10606. (EPA-HQ-OPP-2013-0526). Huntsman Corp., 8600 Gosling Rd., The Woodlands, TX 77381, requests to establish an exemption from the requirement of a tolerance for residues of octadecanoic acid, 12-hydroxy-, homopolymer, ester with 2-methyloxirane polymer with oxirane monobutyl ether, minimum number average molecular weight (in amu), 1,900; (CAS No. 1373125-59-7) under 40 CFR 180.960 when used as a pesticide inert ingredient surfactant in food use pesticide formulations. The petitioner believes no analytical method is needed because this information is not required for the establishment of a tolerance exemption. (RD)

6. PP IN-10607. (EPA-HQ-OPP-2013-0540). Huntsman Corp., 8600 Gosling Rd., The Woodlands, TX 77381, requests to establish an exemption from the requirement of a tolerance for residues of 2,5-furandione, polymer with ethenylbenzene, reaction products with polyethylene-polypropylene glycol 2-aminopropyl Me ether, minimum number average molecular weight (in amu), 10,000 (CAS No.162568-32-3) under 40 CFR 180.960 when used as a pesticide inert ingredient surfactant in food use pesticide formulations without limit. The petitioner believes no analytical method is needed because this information is not required for the establishment of a tolerance exemption. (RD)

Amended Tolerance

PP IN-10544. (EPA-HQ-OPP-2013-0210). Spring Trading Company, 10805 W. Timberwagon Cir., Spring, TX 77380-4030, on behalf of Akzo Nobel Surface Chemistry, LLC; 525 West Van Buren, Chicago, IL 60607-3823, is requesting a change in the 40 CFR sections under which the requested tolerance exemptions would be established from 180.920, 180.930, or 180.960 to 180.910, 180.930, 180.940(a) or 180.960. Their initial Notice of Filing (NOF) published in the Federal Register of July 19, 2013 (78 FR 43115) (FRL-9392-9), where EPA issued a notice pursuant to section 408 of FFDCA, 21 U.S.C. 346a, announcing the filing of a pesticide petition (IN-10544). The petitioner is now requesting, pursuant to section 408(d) of the Federal Food, Drug, and Cosmetic Act (FFDCA), 21 U.S.C. 346a(d), to amend 40 CFR part 180 to revise the exemption from the requirement of tolerances for [alpha]-alkyl-[omega]-hydroxypoly (oxypropylene) and/or poly (oxyethylene) polymers where the alkyl chain contains a minimum of six carbons under 40 CFR 180.910, 180.930, 180.940(a), or 180.960 in or on the raw agricultural commodities after harvest or growing crops, animals and food contact surface sanitizing solutions and [alpha]-alkyl-[omega]-hydroxypoly (oxypropylene) and/or poly (oxyethylene) polymers where the alkyl chain contains a minimum of six carbons, minimum number average molecular weight (in amu) 1,100 under 40 CFR 180.960, when used as a pesticide inert ingredient in pesticide formulations, to include the following Chemical Abstract Service Registry Numbers (CAS Reg. Nos.): 67254-71-1; 161025-22-5; 68409-59-6; 160901-20-2; 159653-49-3; 160901-19-9; 103331-86-8; 126950-62-7; 74499-34-6; 161025-21-4; 176022-76-7; 68603-20-3; 68526-95-4; 64425-86-1; 139626-71-4; 152231-44-2; 120944-68-5; 157707-41-0; 288260-45-7; 287935-46-0; 126646-02-4; 954108-36-2; 71011-10-4; 121617-09-2; 69227-20-9; 116810-32-3; 79771-03-2; 67763-08-0; 68439-48-5; 72066-65-0; 68991-48-0; 303176-75-2; 116810-33-4; 157707-43-2; 68954-94-9; 160901-09-7; 102782-43-4; 68920-69-4; 154518-36-2; 157627-88-8; 68439-53-2; 103819-03-0; 70955-07-6; 74432-13-6; 68439-30-5; 9038-29-3; 68238-81-3; 68409-58-5; 68238-82-4; 37311-00-5; 37311-01-6; 52232-09-4; 73018-31-2; 9038-43-1; 63303-01-5; 37311-04-9; 65150-81-4; 63658-45-7; 139381-39-8; 72484-69-6; 59112-62-8; 50861-66-0; 103657-84-7; 103657-85-8; 67784-96-7; 25190-05-0; 26636-39-5; 64415-24-3; 65104-72-5; 9040-05-5; 27252-75-1; 64415-25-4; 9035-85-2; 72108-90-8; 25231-21-4; 62648-50-4; 63793-60-2; 63303-00-4; 57455-38-6; 57497-74-2; 70955-69-0; 26401-47-8; 39278-93-8; 9004-87-9; 68987-90-6; 26403-74-7; 9046-09-7; and 288095-59-0. The petitioner does not expect that the addition of these CAS numbers to result in additional exposure or risk. An analytical method is not required for enforcement purposes since the Agency is establishing an exemption from the requirement of tolerances without any numerical limitation. (RD)

List of Subjects

Environmental protection, Agricultural commodities, Feed additives, Food additives, Pesticides and pests, Reporting and recordkeeping requirements.

Dated: September 5, 2013.
Lois Rossi,
Director, Registration Division, Office of Pesticide Programs.

[FR Doc. 2013-22218 Filed 9-11-13; 8:45 am]

BILLING CODE 6560-50-P